DEPARTMENT OF ENERGY

Federal Energy Regulatory Commission

[Docket No. RP00-63-003]

Great Lakes Gas Transmission Limited Partnership; Notice of Compliance Filing

May 18, 2001.

Take notice that on May 15, 2001, Great Lakes Gas Transmission Limited Partnership (Great Lakes) tendered for filing as part of its FERC Gas Tariff Second Revised Volume No. 1, the following sheets with an effective date of April 30, 2001:

Substitute Seventh Revised Sheet No. 4

Substitute Sixth Revised Sheet No. 13

Great Lakes states that these tariff sheets are being filed to a) comply with the Commission's April 27, 2001 Letter Order wherein Great Lakes was directed to correct an editing error in Seventh Revised Sheet No. 4 and b) restate Sixth Revised Sheet No. 13 as a result of the rejection of Fifth Revised Sheet No. 13 in the Commission's April 25, 2001 Letter Order.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

Linwood A. Watson, Jr.,
Acting Secretary.

[FR Doc. 01-13084 Filed 5-23-01; 8:45 am]

BILLING CODE 6717-01-M